DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Export Trading Companies Contact Facilitation Services.

OMB Control Number: 0625-0120.

Form Number(s): ITA 4094P.

Type of Request: Regular submission.

Burden Hours: 4,500.

Number of Respondents: 18,000.

Average Hours per Response: 15 minutes.

Needs and Uses: Many U.S. firms do not export because of a fear of the risks involved in exporting, lack of knowledge about the international marketplace, and insufficient resources. These firms need a venue to find one another and share the risks and costs of exporting, and they need the assistance of companies that specialize in providing export trade facilitation services. The Export Trading Company Act of 1982 directs the U.S. Department of Commerce (DOC) to (a) encourage the formation of export associations and export service firms, and (b) provide an exporter referral service that will facilitate contact between producers and export service firms. DOC fulfills its mandate through the Contact Facilitation Service (CFS). The CFS provides a platform for U.S. producers to (a) find one another and form export alliances, to achieve economies of scale, and (b) locate export service firms and attract foreign importers.

The current CFS registration form is available online via the Internet at http://www.exportyellowpages.com. The Export Yellow Pages®, a DOC program, produces two directories that draw upon CFS data collection (a) “The Export Yellow Pages®”, a directory of U.S. producers of goods and services, and (b) the “U.S. Trade Assistance Directory,” a directory of export trade facilitation firms and other providers of export assistance. These directories are accessible by international traders worldwide, via the Internet at http://www.exportyellowpages.com, and as a single print directory published on an annual basis. The print directory is distributed to Commerce Export Assistance Centers and U.S. embassies and consulates worldwide.

Affected Public: Business or other for-profit organizations; State, local or tribal government.

Frequency: On occasion.

Respondent's Obligation: Required to obtain or retain benefit.

OMB Desk Officer: Wendy Liberante, (202) 395-3647.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Wendy Liberante, OMB Desk Officer, Fax number (202) 395-7285 or via the Internet at Wendy_L._Liberante@omb.eop.gov.

Dated: November 17, 2008.
Gwellnar Banks,
Management Analyst, Office of the Chief Information Officer.

[FR Doc. E8-27602 Filed 11-19-08; 8:45 am]

BILLING CODE 3510-DR-P